DEPARTMENT OF TRANSPORTATION

Federal Railroad Administration

RIN 2130-AB74

Richmond-Hampton Roads Passenger Rail Project

AGENCY: Federal Railroad Administration (FRA), U.S. Department of Transportation (DOT).

ACTION: Notice of availability of the Tier I Draft Environmental Impact Statement and public hearings for the Richmond-Hampton Roads Passenger Rail Project (Project).

SUMMARY: The Federal Railroad Administration announces the availability of the Richmond-Hampton Roads Passenger Rail Project Draft Tier I Environmental Impact Statement (DEIS) for public review and comment. The DEIS was prepared pursuant to the National Environmental Policy Act of 1969 (NEPA), as amended, 42 U.S.C. 4321 et seq., the Council on Environmental Quality NEPA implementing regulations, 40 CFR parts 1500-1508, and the FRA NEPA procedures, 64 FR 28545 (May 26, 1999). FRA is the lead Federal agency and the Virginia Department of Rail and Public Transportation (DRPT) is the lead State agency. The Environmental Protection Agency (EPA) included the DEIS in the Notice of Availability (NOA) published on December 11, 2009.

DATES: FRA invites interested Members of Congress, state and local governments, other Federal agencies, Native American tribal governments, organizations, and members of the public to provide comments on the DEIS. The public comment period began with EPA's publication of the NOA on December 11, 2009. Because of the anticipated interest in the Project, the comment period will continue until February 11, 2010. Written and oral comments will be given equal weight, and FRA and DRPT will consider all comments received or postmarked by that date in preparing the Final EIS. Comments received or postmarked after that date will be considered to the extent practicable.

Dates and locations for the public hearings are:

1. Richmond: January 26, 2010 from 5:30 to 8 p.m. Eastern Standard Time. Virginia Department of Motor Vehicles, 2300 West Broad Street, Richmond, VA 23269.

2. Newport News: January 27, 2010 from 5:30 to 8 p.m. Eastern Standard Time. City Center Conference Facilities, James and Warwick Rooms, 700 Town Center Drive, Newport News, VA 23606.

3. Norfolk: January 28, 2010 from 5:30 to 8 p.m. Eastern Standard Time. Half Moone Cruise and Celebration Center, One Waterside Drive, Norfolk, VA 23510.

ADDRESSES: Comments may be submitted at the public hearings both verbally and in writing. Written comments may be submitted via the project Web site at http://www.rich2hrrail.info or mailed to VDRPT at the Commonwealth of Virginia, Department of Rail & Public Transportation, 600 East Main Street, Suite 2102, Richmond, VA 23219, Attention: Public Information Office.

FOR FURTHER INFORMATION CONTACT: For further information regarding the DEIS or the Project, please contact: Ms. Christine Fix, Department of Rail & Public Transportation, 600 East Main Street, Suite 2102, Richmond, VA 23219 (telephone 804 786-1052); or by e-mail at christine.fix@drpt.virginia.gov with “Richmond-Hampton Roads Passenger Rail Project” in the subject heading, or Mr. John Winkle, Transportation Industry Analyst, Office of Passenger Programs, Federal Railroad Administration, 1200 New Jersey Ave., SE., Room W38-311, Washington, DC 20590 (telephone 202 493-6067), or by e-mail at John.Winkle@DOT.Gov with “Richmond-Hampton Roads Passenger Rail Project” in the subject heading.

SUPPLEMENTARY INFORMATION: The DEIS evaluates the environmental impacts of the Richmond-Hampton Roads Passenger Rail Project, which proposes passenger rail service improvements between the City of Richmond, VA and the Hampton Roads region. As a Tier I document, the DEIS focuses on program level decisions affecting potential passenger rail service in the Richmond-Hampton Roads corridor. The DEIS analyzes a Status Quo Alternative, the No Action Alternative and three Build Alternatives. The Build Alternatives focus on two rail routes to implement passenger rail service improvements: the Peninsula/CSX Route and the Southside/NS Route. The Build Alternatives examine a combination of conventional (79-mph) and higher speed (90 and 110-mph) passenger rail services with varying service frequencies over the two routes. This rail service would serve as an extension of the Southeast High Speed Rail Corridor, providing rail connections to the Southeast, Northeast, and Mid-Atlantic Regions. Potential environmental impacts of the Build Alternatives include increased noise and vibration, local traffic impacts associated with stations, impacts on historic properties and archeological sites, impacts on parks and recreation resources, impacts on sensitive biological resources and wetlands, and use of energy. Mitigation strategies are described to avoid or minimize potential impacts. Such strategies would be further refined in subsequent environmental review.

Availability of the DEIS

DRPT has placed copies of the Draft EIS and appendices at the following libraries:

Blackwater Regional Library | Chesapeake Public Library
Chesterfield County Public Library | Colonial Heights Public Library
Gloucester Public Library | Hampton Main Public Library
Maude Langhorne Nelson Library | Newport News Main Public Library
York County Public Library/Tabb Library | Norfolk Main Library
Pamunkey Regional Library | Petersburg Central Public Library
Portsmouth Main Public Library | Richmond Main Public Library
Suffolk Morgan Memorial Public Library | Virginia Beach Central Library
Williamsburg Regional Library/Williamsburg Library
Henrico County Municipal Government and Law Library

Commenters are advised to check the project website for a complete list of library locations and addresses.

The document is also available at the Virginia Department of Rail and Public Transportation Office in Richmond, 600 East Main Street, Suite 2102, Richmond, VA; the Hampton Roads Transportation Planning Organization Office in Chesapeake, The Regional Building, 723 Woodlake Drive, Chesapeake, VA; the Richmond Area Metropolitan Planning Organization, located at the Richmond Regional Planning District Commission, 9211 Forest Hill Avenue, Suite 200, Richmond, VA; and the Tri-Cities Area Metropolitan Planning Organization, located at the Crater District Planning Commission, 1964 Wakefield Street, Petersburg, VA. In addition, electronic versions of the Draft EIS and appendices are available through FRA's Web site at http://www.fra.dot.gov/us/content/2316, on the VDRPT Web site at http://www.drpt.virginia.gov/projects/hamptonpassenger.aspx, and the project Web site at http://www.rich2hrrail.info.

Issued in Washington, DC, on December 18, 2009.
Mark E. Yachmetz,
Associate Administrator for Railroad Development.

[FR Doc. E9-30724 Filed 12-28-09; 8:45 am]

BILLING CODE 4910-06-P